DEPARTMENT OF LABOR

Employment and Training Administration

[TA-W-62,754]

Silicon Laboratories, Inc., Including On-Site Temporary Workers From TRC Staffing, Austin, TX; Amended Certification Regarding Eligibility to Apply for Worker Adjustment Assistance and Alternative Trade Adjustment Assistance

In accordance with section 223 of the Trade Act of 1974 (19 U.S.C. 2273), and section 246 of the Trade Act of 1974 (26 U.S.C. 2813), as amended, the Department of Labor issued a Certification of Eligibility to Apply for Worker Adjustment Assistance and Alternative Trade Adjustment Assistance on February 22, 2008, applicable to workers of Silicon Laboratories, Inc., Austin, Texas. The notice was published in the Federal Register on March 7, 2008 (73 FR 12466).

At the request of the State agency, the Department reviewed the certification for workers of the subject firm. The workers are engaged in functions relating to designing and testing of silicon chips.

New information shows that temporary workers of TRC Staffing were employed on-site at the Austin, Texas location of Silicon Laboratories, Inc. The Department has determined that these workers were sufficiently under the control of the subject firm to be considered temporary workers.

Based on these findings, the Department is amending this certification to include temporary workers of TRC Staffing working on-site at the Austin, Texas location of the subject firm.

The intent of the Department's certification is to include all workers employed at Silicon Laboratories, Inc., Austin, Texas who were adversely affected by a shift in production of silicon chips to Singapore.

The amended notice applicable to TA-W-62,754 is hereby issued as follows:

All workers of Silicon Laboratories, Inc., including on-site temporary workers from TRC Staffing, Austin, Texas, who became totally or partially separated from employment on or after January 28, 2007, through February 22, 2010, are eligible to apply for adjustment assistance under Section 223 of the Trade Act of 1974, and are also eligible to apply for alternative trade adjustment assistance under Section 246 of the Trade Act of 1974.

Signed at Washington, DC, this 1st day of April 2008.
Elliott S. Kushner,
Certifying Officer, Division of Trade Adjustment Assistance.

[FR Doc. E8-7737 Filed 4-10-08; 8:45 am]

BILLING CODE 4510-FN-P